ENVIRONMENTAL PROTECTION AGENCY

40 CFR Part 52

[EPA-R06-OAR-2019-0211; FRL-10008-61-Region 6]

Air Plan Approval; Louisiana; Infrastructure for the 2015 Ozone National Ambient Air Quality Standards

AGENCY: Environmental Protection Agency (EPA).

ACTION: Final rule.

SUMMARY: Pursuant to the Federal Clean Air Act (CAA or the Act), the Environmental Protection Agency (EPA) is approving elements of two State Implementation Plan (SIP) submittals from Louisiana for the 2015 ozone National Ambient Air Quality Standards (NAAQS). The submittals address how the existing SIP provides for the implementation, maintenance, and enforcement of the 2015 ozone NAAQS (infrastructure SIP or i-SIP). The i-SIP ensures that the Louisiana SIP is adequate to meet the state's responsibilities under the CAA for this NAAQS.

DATES: This rule is effective on July 6, 2020.

ADDRESSES: The EPA has established a docket for this action under Docket ID No. EPA-R06-OAR-2019-0211. All documents in the docket are listed on the https://www.regulations.gov website. Although listed in the index, some information is not publicly available, e.g., Confidential Business Information or other information whose disclosure is restricted by statute. Certain other material, such as copyrighted material, is not placed on the internet. Publicly available docket materials are available electronically through https://www.regulations.gov.

FOR FURTHER INFORMATION CONTACT: Sherry Fuerst, EPA Region 6 Office, Infrastructure & Ozone Section, 214-665-6454, fuerst.sherry@epa.gov. Out of an abundance of caution for members of the public and our staff, the EPA Region 6 office will be closed to the public to reduce the risk of transmitting COVID-19. Please call or email the contact listed above if you need alternative access to material indexed but not provided in the docket.

SUPPLEMENTARY INFORMATION: Throughout this document “we,” “us,” and “our” means the EPA.

I. Background

The background for this action is discussed in detail in our February 28, 2020, proposal (85 FR 11931). In that action we proposed to approve the State's February 7, 2019, SIP submittal, and portions of the State's November 8, 2019, SIP submittal pursuant to the requirements of CAA sections 110(a)(1) and 110(a)(2)(A) through (C), and (H) through (M). We also proposed approving the Louisiana SIP for compliance with CAA sections 110(a)(2)(D)(i)(II), Interference with Prevention of Significant Deterioration and 110(a)(2)(D)(ii), Interstate Pollution Abatement (which refers to CAA section 126) and International Air Pollution (which refers to CAA section 115). We did not propose action on the remaining portions of the November 8, 2019, submittal addressing CAA section 110(a)(2)(D)(i)(I), and 110(a)(2)(D)(i)(II) (visibility protection portion), which will be addressed in separate, subsequent actions. We did not receive any comments regarding our proposal.

II. Final Action

The EPA is approving the February 7, 2019, SIP submittal, and portions of the November 8, 2019, SIP submittal for Louisiana pursuant to the requirements of CAA sections 110(a)(1) and 110(a)(2)(A) through (C), 110(a)(2)(D)(i)(II) (the Prevention of Significant Deterioration portion), 110(a)(2)(D)(ii), 110(a)(2)(E) through (H) and 110(a)(2)(J) through (M). The submission addressed how Louisiana's existing SIP provides for implementation, maintenance, and enforcement of the 2015 Ozone NAAQS. This action is being taken under section 110 of the Act.

III. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 3, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).

List of Subjects in 40 CFR Part 52

Environmental protection, Air pollution control, Incorporation by reference, Ozone.

Dated: May 5, 2020.
Kenley McQueen,
Regional Administrator, Region 6.

For the reasons stated in the preamble, amend 40 CFR part 52 as follows:

PART 52—APPROVAL AND PROMULGATION OF IMPLEMENTATION PLANS

1. The authority citation for part 52 continues to read as follows:

Authority: 42 U.S.C. 7401 et seq.

Subpart T—Louisiana

2. In § 52.970, in paragraph (e), amend the table titled “EPA Approved Louisiana Provisions and Quasi-Regulatory Measures by adding an entry for “Infrastructure for the 2015 Ozone NAAQS” at the end of the table to read as follows:

§ 52.970 Identification of Plan.

* * * * *

(e) * * *

EPA Approved Louisiana Nonregulatory Provisions and Quasi-Regulatory Measures
Name of SIP provision | Applicable geographic or nonattainment area | State submittal/ effective date | EPA approval date | Comments
* * * * * * *
Infrastructure for the 2015 Ozone NAAQS | Statewide | 2/7/19, 11/8/19 | 6/3/2020, [Insert Federal Register citation] | Approval for 110(a)(2)(A), (B), (C), (D)(i)(I) (portion pertaining to PSD), D(ii), (E), (F), (G), (H), (J), (K), (L) and (M).

[FR Doc. 2020-10064 Filed 6-2-20; 8:45 am]

BILLING CODE 6560-50-P